DEPARTMENT OF STATE

[Public Notice: 10213]

Notice of Meeting of Advisory Committee on International Law

A meeting of the Department of State's Advisory Committee on International Law will take place on Thursday, December 14, 2017, from 9:30 a.m. to 5:00 p.m. at the George Washington University Law School, Michael K. Young Faculty Conference Center, 716 20th St. NW., 5th Floor, Washington, DC. It is anticipated that Acting Legal Adviser Richard C. Visek will chair the meeting, which will be open to the public up to the capacity of the meeting room. It is anticipated that the meeting will include discussions on international law and cyberspace, lethal autonomous weapons systems, and self-determination under international law.

Members of the public who wish to attend should contact the Office of the Legal Adviser by December 10 at heathjb@state.gov or 202-776-8315 and provide their name, professional affiliation, address, and phone number. A valid photo ID is required for admission to the meeting. Attendees who require reasonable accommodation should make their requests by December 7. Requests received after that date will be considered but might not be possible to accommodate.

J. Benton Heath,
Attorney-Adviser, Office of the Legal Adviser, Executive Director, Advisory Committee on International Law, Department of State.

[FR Doc. 2017-25641 Filed 11-27-17; 8:45 am]

BILLING CODE 4710-08-P